ENVIRONMENTAL PROTECTION AGENCY

[FRL-9321-9]

Science Advisory Board Staff Office Notification of a Public Meeting of the Clean Air Scientific Advisory Committee (CASAC) Lead Review Panel

AGENCY: Environmental Protection Agency (EPA).

ACTION: Notice.

SUMMARY: The EPA Science Advisory Board (SAB) Staff Office announces a public meeting of the CASAC Lead Review Panel to conduct a peer review of EPA's Integrated Science Assessment for Lead (First External Review Draft) and a consultation on EPA's Review of the National Ambient Air Quality Standards for Lead: Risk and Exposure Assessment Planning Document.

DATES: The CASAC Lead Review Panel meeting will be held on Wednesday, July 20, 2011, from 9 a.m. to 5:30 p.m. (Eastern Time) and on Thursday, July 21, 2011, from 8:30 a.m. to 12:30 p.m. (Eastern Time).

ADDRESSES: The public meeting will be held at the Marriott at Research Triangle Park hotel, 4700 Guardian Drive, Durham, North Carolina 27703 (919) 941-6200.

FOR FURTHER INFORMATION CONTACT: Any member of the public wishing to obtain general information concerning the public meeting may contact Mr. Aaron Yeow, Designated Federal Officer (DFO), via telephone at (202) 564-2050 or e-mail at yeow.aaron@epa.gov. General information concerning the EPA CASAC can be found on the EPA Web site at http://www.epa.gov/casac.

SUPPLEMENTARY INFORMATION: The CASAC was established pursuant to the Clean Air Act (CAA) Amendments of 1977, codified at 42 U.S.C. 7409D(d)(2), to provide advice, information, and recommendations to the Administrator on the scientific and technical aspects of issues related to the criteria for air quality standards, research related to air quality, sources of air pollution, and the strategies to attain and maintain air quality standards and to prevent significant deterioration of air quality. The CASAC is a Federal Advisory Committee chartered under the Federal Advisory Committee Act (FACA), 5 U.S.C., App. 2. Pursuant to FACA and EPA policy, notice is hereby given that the CASAC Lead Review Panel will hold a public meeting to peer review EPA's Integrated Science Assessment for Lead (First External Review Draft). The Panel will also provide consultative advice on EPA's Review of the National Ambient Air Quality Standards for Lead: Risk and Exposure Assessment Planning Document. These are being prepared as part of the review of the National Ambient Air Quality Standards for Lead. The CASAC Lead Review Panel and the CASAC will comply with the provisions of FACA and all appropriate SAB Staff Office procedural policies.

Section 109(d)(1) of the CAA requires that the Agency periodically review and revise, as appropriate, the air quality criteria and the NAAQS for the six “criteria” air pollutants, including lead. EPA is currently reviewing the primary (health-based) and secondary (welfare-based) NAAQS for lead. The CASAC Lead Review Panel previously provided consultative advice on EPA's Integrated Review Plan for the National Ambient Air Quality Standards for Lead (External Review Draft) in a teleconference on May 5, 2011 (76 FR 21346-21347) as reported in a letter to the EPA Administrator, dated May 25, 2011 (EPA-CASAC-11-007).

The Integrated Science Assessment (ISA) provides a concise review, synthesis and evaluation of the most policy-relevant science, including key science judgments that are important to the design and scope of exposure and risk assessments, as well as other aspects of the NAAQS review. The risk/exposure assessment planning document considers the extent to which information and conclusions presented in the ISA provide support for the development of quantitative assessments of risk and exposure for health and/or welfare effects.

Availability of Meeting Materials: Agendas and materials in support of the meeting will be placed on the CASAC Web site at http://www.epa.gov/casac in advance of the meeting. For technical questions and information concerning EPA's Integrated Science Assessment for Lead (First External Review Draft), please contact Dr. Ellen Kirrane of EPA's Office of Research and Development at (919) 541-1340, or kirrane.ellen@epa.gov. For technical questions and information concerning EPA's Review of the National Ambient Air Quality Standards for Lead: Risk and Exposure Assessment Planning Document, please contact Dr. Deirdre Murphy of EPA's Office of Air and Radiation at (919) 541-0729, or murphy.deirdre@epa.gov.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the CASAC will have the most impact if it provides specific scientific or technical information or analysis for CASAC panels to consider or if it relates to the clarity or accuracy of the technical information. Members of the public wishing to provide comment should contact the Designated Federal Officer directly.

Oral Statements: In general, individuals or groups requesting an oral presentation at a public meeting will be limited to five minutes. Interested parties should contact Mr. Aaron Yeow, DFO, in writing (preferably via e-mail) at the contact information noted above by July 13, 2011, to be placed on the list of public speakers for the meeting.

Written Statements: Written statements should be supplied to the DFO via e-mail at the contact information noted above by July 13, 2011 for the meeting so that the information may be made available to the Panel members for their consideration. Written statements should be supplied in one of the following electronic formats: Adobe Acrobat PDF, MS Word, MS PowerPoint, or Rich Text files in IBM-PC/Windows 98/2000/XP format. It is the SAB Staff Office general policy to post written comments on the Web page for the advisory meeting or teleconference. Submitters are requested to provide an unsigned version of each document because the SAB Staff Office does not publish documents with signatures on its Web sites. Members of the public should be aware that their personal contact information, if included in any written comments, may be posted to the CASAC Web site. Copyrighted material will not be posted without explicit permission of the copyright holder.

Accessibility: For information on access or services for individuals with disabilities, please contact Mr. Aaron Yeow at (202) 564-2050 or yeow.aaron@epa.gov. To request accommodation of a disability, please contact Mr. Yeow preferably at least ten days prior to the teleconference to give EPA as much time as possible to process your request.

Dated: June 14, 2011.
Anthony F. Maciorowski,
Deputy Director, EPA Science Advisory Staff Office.

[FR Doc. 2011-15414 Filed 6-20-11; 8:45 am]

BILLING CODE 6560-50-P